DEPARTMENT OF COMMERCE

National Oceanic and Atmospheric Administration

Agency Information Collection Activities; Submission to the Office of Management and Budget (OMB) for Review and Approval; Comment Request; Weather and Society Survey, and Using Quick Response Surveys To Build a Public Perception and Response Database

AGENCY: National Oceanic & Atmospheric Administration (NOAA), Commerce.

ACTION: Notice of information collection, revised request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before November 22, 2021.

ADDRESSES: Interested persons are invited to submit written comments to Adrienne Thomas, NOAA PRA Officer, at Adrienne.thomas@noaa.gov. Please reference OMB Control Number 0648-xxxx in the subject line of your comments. Do not submit Confidential Business Information or otherwise sensitive or protected information.

FOR FURTHER INFORMATION CONTACT: Requests for additional information or specific questions related to collection activities should be directed to Nicole Kurkowski, R2O Team Lead, DOC/NOAA/NWS/OSTI, 1325 East-West Highway, Silver Spring, MD 20910, 301.427.9104, nicole.kurkowski@noaa.gov.

SUPPLEMENTARY INFORMATION:

I. Abstract

A notice of request for a new information collection was previously published in the Federal Register on August 19, 2021 (86 FR 46681) regarding this collection. This revised notice incorporates an additional collection of information and this notice will allow for an additional 60 days for public comment.

In alignment with the Weather Forecasting and Innovation Act of 2017 (Pub. L. 115-25), two data collections are proposed under this request. There are no other collections for which these can be merged.

The first proposed information collection request is sponsored by DOC/NOAA/National Weather Service (NWS)/Office of Science and Technology Integration (OSTI). Currently, NOAA lacks data and data collection instruments that articulate and explicate how individuals receive, interpret, and respond to NOAA information, forecasts, and warnings for severe, winter, and tropical weather hazards. Furthermore, NOAA lacks this type of data longitudinally (i.e., collected over time). Without this type of longitudinal data, NOAA, and the NWS specifically, cannot determine if it has met its mission of saving lives and property, propose societal impact performance metrics, nor demonstrate if progress or improvements have been made, as outlined in the Weather Research and Forecasting Innovation Act of 2017. This effort aims to advance the Tornado Warning Improvement and Extension Program (TWIEP)'s goal to “reduce the loss of life and economic losses from tornadoes through the development and extension of accurate, effective, and timely tornado forecasts, predictions, and warnings, including the prediction of tornadoes beyond one hour in advance (Pub. L. 115-25)”. This work addresses NOAA's 5-year Research and Development Vision Areas (2020-2026) Section 1.4 (FACETs). The Weather and Society Survey also advances the findings of the National Academy of Science 2012 report, “Assessment of the NWS Modernization Program”, in reference to NWS' “chain of events associated with a tornado warning” (p52). This effort also advances the NWS Strategic Plan (2019-2022) “Transformative Impact-Based Decision Support Services (IDSS) and Research to Operations and Operations to Research (R2O/O2R). Furthermore, the Survey furthers the NWS Weather Ready Nation (WRN) Roadmap (2013) Sections 1.1.1, 1.1.2, 1.1.3, 1.1.8, and 3.1.4.

This information would be collected at the Cooperative Institute for Mesoscale Meteorological Studies (CIMMS) and the University of Oklahoma's Center for Risk and Crisis Management (CRCM), who has developed data collection instruments that would allow for more routine and longitudinal data collection, as the data will be collected on an annual basis. Furthermore, this team has developed interactive “dashboards”, or tools, to visualize the aggregated data.

Respondents include adults (age 18+) who reside in the United States, recruited by survey companies that maintain large panels of people who sign up to complete internet surveys, such as Qualtrics and Survey Sampling International. Respondents will be asked questions about the ways they have received, interpreted, and responded to NWS information, forecasts, and warnings for severe, tropical, and winter weather hazards. Questions about preparedness for specific hazards such as heat waves, tornadoes, and drought may also be included. This data collection serves many purposes, including gaining a better understanding of how key factors within a given population, or organization, vary over time, location, and across different groups; the ability to detect gradual trends or abrupt changes in those factors over time or in response to particular events; and the potential to explore possible correlations and causal relationships with other observed variables of interest. These data will be used by the OSTI in NWS to develop a baseline and performance metrics to improve the information and services it provides and to help members of the weather enterprise answer basic questions about the people in the communities they serve, which is a necessary step towards customizing and improving risk communication, education, and decision support to meet the characteristics of the community, including those in vulnerable populations. The information collected will help identify differences and best practices between communities and assist NWS in developing new education and risk communication strategies. The survey data and its associated dashboard will serve as interactive tools to allow NWS forecasters, partners, and policymakers to access and explore data for training and performance evaluation purposes.

The second proposed collection is sponsored through NOAA's FY2021 Weather Program Office's Social Science Program, and addresses the Social, Behavioral, and Economic Sciences (SBES) component of meeting NOAA's Research and Development (R&D) Vision Areas (2020-2026) to integrate SBES into products, tools, and services that improve weather and air quality forecasting and societal outcomes.

This proposal aims to create an online survey system for collecting data on the publics' perception and response to four different hazards: Tornados, thunderstorm winds over 70 miles per hour (mph), flash floods, and winter weather. The online surveys will be the building blocks for a multi-year, cross-sectional database on human perception and response. The survey system will enable individual National Weather Service Weather Forecast Offices (WFOs) to disseminate Quick Response Surveys (QRS) soon after a hazardous event occurs to collect perishable data on the publics' perceptions and response. Select WFOs will distribute the QRSs using web links on NWS social media and core partners' social media or email lists. Surveys will ask the public questions on timing, location, weather information sources, motivations and influences for taking protective action to gain insights into how NWS warning communications interact with these factors to result in protective action behaviors.

II. Method of Collection

For the first collection, the primary method of data collection will be a web-based survey interface. Specific questions in the surveys determine how members of the U.S. public receive, comprehend, and respond to severe, tropical, and winter weather related information. Furthermore, these survey items will be translated to Spanish.

The second collection will include online surveys to be implemented and aggregated using Qualtrics survey software. The surveys will be displayed on a desktop, tablet or mobile device allowing the public to take the survey whenever they have internet access. Select WFOs will distribute the QRSs using web links on NWS social media and core partners' social media or email lists.

III. Data

OMB Control Number: 0648-XXXX.

Form Number(s): None.

Type of Review: Regular (New information collection).

Affected Public: Individuals or households.

Estimated Number of Respondents: 101,000.

Estimated Time per Response: Response time varies depending on the survey instrument, but the typical response time is between 10 and 20 minutes.

Estimated Total Annual Burden Hours: 7,667.

Estimated Total Annual Cost to Public: None.

Respondent's Obligation: Voluntary.

Legal Authority: 15 U.S.C. Ch. 111, Weather Research and Forecasting Information.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-20513 Filed 9-21-21; 8:45 am]

BILLING CODE 3510-KE-P